DEPARTMENT OF ENERGY

Federal Energy Regulatory Commission

[Docket No. RP03-326-002]

Iroquois Gas Transmission System, L.P.; Notice of Compliance Filing

August 6, 2003.

Take notice that on July 29, 2003, Iroquois Gas Transmission System, L.P. (Iroquois) tendered for filing as part of its FERC Gas Tariff, Volume No. 1, the following tariff sheets proposed to become effective May 15, 2003:

Sub. Second Revised Sheet No. 141

Sub. Second Revised Sheet No. 149

Iroquois states that the instant tariff filing corrects inadvertent omissions of language from the above noted tariff sheets currently on file with the Commission. These omissions were discovered as part of an on-going internal review of Iroquois' FERC Gas Tariff. Iroquois states that the proposed corrections are necessary to provide Iroquois' shippers with uniform tariff provisions and to avoid confusion.

Iroquois states that copies of its filing were served on all jurisdictional customers and interested state regulatory agencies and all parties to the proceeding.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: August 11, 2003.

Magalie R. Salas,
Secretary.

[FR Doc. 03-20623 Filed 8-12-03; 8:45 am]

BILLING CODE 6717-01-P